DEPARTMENT OF COMMERCE

National Oceanic and Atmospheric Administration

[RTID 0648-XE935]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) application contains all of the required information and warrants further consideration. The EFP would allow federally permitted fishing vessels to fish outside fishery regulations in support of exempted fishing activities proposed by the Commercial Fisheries Research Foundation. Regulations under the Magnuson-Stevens Fishery Conservation and Management Act require publication of this notification to provide interested parties the opportunity to comment on applications for proposed EFPs.

DATES: Comments must be received on or before June 6, 2025.

ADDRESSES: You may submit written comments by email: nmfs.gar.efp@noaa.gov. Include in the subject line “Increasing Trip Limits to Promote Full Utilization of the Skate Wing Fishery.” All comments received are a part of the public record and may be posted for public viewing without change. All personal identifying information (e.g., name, address), confidential business information, or otherwise sensitive information submitted voluntarily by the sender will be publicly accessible. NMFS will accept anonymous comments (enter “anonymous” as the signature if you wish to remain anonymous).

FOR FURTHER INFORMATION CONTACT: Elise Scholl, Fishery Management Specialist, elise.scholl@noaa.gov, (978) 281-9189.

SUPPLEMENTARY INFORMATION: The applicant has submitted a complete application for an EFP to conduct commercial fishing activities that the regulations would otherwise restrict. This EFP would exempt the participating vessels from the following Federal regulations:

Table 1—Requested Exemptions
CFR Citation | Regulation | Need for exemption
50 CFR 648.322 (b)(1)(i) | Skate wing possession and landing limits, vessels fishing under an Atlantic sea scallop, northeast multispecies, or monkfish day at sea | To exceed the skate wing fishery trip limit of 4,000 pounds (lb; 1.8 metric tons (mt)) of skate wings (9,080 lb (4.1 mt) whole weight) in Season 1, and 6,000 lb (2.7 mt) of skate wings (13,620 lb (6.2 mt) whole weight) in Season 2.

Table 2—Project Summary
Project title | Increasing Trip Limits to Promote Full Utilization of the Skate Wing Fishery.
Project start | Upon approval.
Project end | 04/30/2026.
Project objectives | To quantify the economic and ecological benefits and consequences of an increased skate wing trip limit.
Project location | Statistical areas 521, 526, and 537.
Number of vessels | 7.
Number of trips | 700 (100 per vessel).
Trip duration (days) | 1.
Total number of days | 700 (100 per vessel).
Gear type(s) | Gillnet.
Number of tows or sets | Within regulated gillnet set limits.
Duration of tows or sets | 1-3 days.

Project Narrative

Background: Red's Best submitted an emergency action petition to the Regional Administrator on January 7, 2025, to increase the skate possession limit, indicating that the skate fishery had been under harvested since 2017, to a total of 63,000,000 lb (28,576 mt), resulting in approximately $17 million in lost ex-vessel revenue. We responded that an EFP would be a more appropriate mechanism to explore opportunities for increasing the utilization of the skate resource. In response, Red's Best has partnered with the Commercial Fisheries Research Foundation, which submitted an EFP application that would conditionally allow vessels with skate permits to exceed skate possession limits for the purpose of quantifying the economic and ecological benefits and consequences of an increased skate wing trip limit.

Based on the annual monitoring reports for fishing years 2021-2023, skate landings have been less than 45 percent of the total allowable landings (TAL). The applicant seeks to address the underutilization of the skate resource by allowing an exemption to the 4,000 lb (1.8 mt) per trip skate wing possession limit (9,080 lb (4.1 mt) whole weight) in Season 1 (May 1-August 31), and the 6,000 lb (2.7 mt) per trip possession limit of skate wings (13,620 lb (6.2 mt) whole weight) in Season 2 (September 1-April 30).

Under this EFP, the trip limits would be increased to 7,000 lb (3.1 mt) (15,890 lb (7.2 mt) whole weight) per trip in Season 1, and 9,000 lb (4.1 mt) (20,430 lb (9.3 mt) whole weight) per trip in Season 2. The participating vessels would be authorized to take up to 700 trips that exceed the possession limit in the 2025 fishing year, with the intent for each vessel to be able to make up to 100 trips. Participating vessels are a mix of a full-time and part-time gillnetters; the part-time gillnetters would likely have all of their trips occur under this EFP; only a portion of trips by full-time gillnetters would be taken with the increased trip limit. If any of the 7 vessels are not able to utilize all 100 trips, they may be utilized by the other participating vessels. All trips under the EFP would be exclusively wing trips without bait skate landings. This EFP could increase skate landings by over 2 million lb (907 mt) and, given recent skate wing ex-vessel prices, could have an approximate ex-vessel value of over $1.4 million. In addition, given the overlap with the monkfish fishery, which at times has been constrained by skate trip limits in the Southern Fishery Management Area, this EFP could improve utilization of the monkfish annual catch limit.

If approved, a condition would be placed on the EFP that, if skate landings surpass 75 percent of total allowable landings in either Season 1 or Season 2, the possession limit exemption would be suspended for the remainder of the applicable season and vessels would be subject to the fishery-wide possession limit. The 2025 skate wing TAL is 10,453 mt. This EFP could result in an additional 2.1 million lb (952 mt) in wings being landed. Total previous year landings have represented approximately 42 percent to 50 percent of the quota, it is estimated that the additional catch from this EFP would bring the total catch to just under 75 percent of the TAL, making the 75 percent trigger sufficiently precautionary. It is unlikely that all 700 trips would land the maximum amount of skate wings allowed, which further reduces the potential for this EFP to impact other vessels.

All participating vessels would collect data on all large-mesh gillnet trips fished with and without the increased skate wing trip limit. Data collection would include trip duration, number of nets set and soak time, quantity and value of skate catch and non-target catch, and fuel used. Data on monkfish catch and bycatch species would also be collected. Skate wing catch and monkfish catch would be compared between trips conducted with and without the increased trip limit to inform project objectives.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: May 16, 2025.
Kelly Denit,
Director, Office of Sustainable Fisheries, National Marine Fisheries Service.

[FR Doc. 2025-09159 Filed 5-21-25; 8:45 am]

BILLING CODE 3510-22-P